ENVIRONMENTAL PROTECTION AGENCY

[EPA-HQ-OPP-2019-0417; FRL-9997-78]

FIFRA Scientific Advisory Panel; Notice of Public Meetings and Request for Nomination of Ad Hoc Expert Reviewers

AGENCY: Environmental Protection Agency (EPA).

ACTION: Notice.

SUMMARY: There will be a 4-day, public, in-person meeting of the Federal Insecticide, Fungicide, and Rodenticide Act (FIFRA) Scientific Advisory Panel (SAP) to consider and review the Approaches for Quantitative Use of Surface Water Monitoring Data in Pesticide Drinking Water Assessments. Preceding the in-person meeting, there will be a preparatory, public, virtual meeting, conducted via teleconference and webcast using Adobe Connect, to consider the scope and clarity of the draft charge questions for this peer review. In addition, EPA is requesting nominations of prospective candidates for service as ad hoc reviewers to assist the FIFRA SAP with this review. Any interested person or organization may nominate qualified individuals to be considered as prospective candidates for this review by following the instructions provided in this notice.

DATES:

Meetings: The 4-day, public, in-person meeting will be held November 19 to November 22, 2019, from 9:00 a.m. to approximately 5:00 p.m. (EST). The date, time, and registration instructions for the preparatory, public, virtual meeting will be announced on the FIFRA SAP website (http://www.epa.gov/sap) by late-August. You may subscribe to the following listserv for alerts when notices regarding this and other SAP-related activities are published: https://public.govdelivery.com/accounts/USAEPAOPPT/subscriber/new?topic_id=USAEPAOPPT_101.

Nominations: Nominations of candidates to serve as ad hoc reviewers, to assist the FIFRA SAP with this review, should be provided on or before September 12, 2019.

Special accommodations: Requests for special accommodations should be submitted on or before October 29, 2019, to allow EPA time to process your request.

Comments: The Agency encourages written comments and requests for oral comments be submitted on or before October 4, 2019. However, written comments and requests to make oral comments may be submitted until the date of the in-person meeting, but anyone submitting such comments and requests after October 4, 2019, should contact the Designated Federal Official (DFO) listed under FOR FURTHER INFORMATION CONTACT. For additional instructions, see Unit I.D. and Unit I.E. of the SUPPLEMENTARY INFORMATION.

ADDRESSES:

In-Person Meeting: The location of the 4-day, public, in-person meeting will be announced on the FIFRA SAP website at http://www.epa.gov/sap. This meeting may also be viewed via webcast. Please refer to the FIFRA SAP website at http://www.epa.gov/sap for information on how to access the webcast. Please note that this webcast is a supplementary public process provided only for convenience. If difficulties arise resulting in webcasting outages, the in-person meeting will continue as planned.

Virtual Meeting: The preparatory, virtual meeting is open to the public and will be conducted via webcast using Adobe Connect and telephone. Registration is required to participate during the preparatory, virtual meeting. Please refer to the FIFRA SAP website at http://www.epa.gov/sap for additional information including how to register.

Nominations: Submit nominations of candidates to serve as ad hoc reviewers, to assist the FIFRA SAP with this review, to the DFO listed under FOR FURTHER INFORMATION CONTACT.

Special accommodations: For information on access or services for individuals with disabilities, and to request accommodation for a disability, please contact the DFO listed under FOR FURTHER INFORMATION CONTACT.

Comments. Submit requests to present oral comments to the DFO listed under FOR FURTHER INFORMATION CONTACT.

Submit your written comments, identified by docket identification (ID) number EPA-HQ-OPP-2019-0417, by one of the following methods:

• Federal eRulemaking Portal: http://www.regulations.gov. Follow the online instructions for submitting comments. Do not electronically submit any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional information on commenting or visiting the docket, along with more information about dockets generally, is available at http://www.epa.gov/dockets. For additional instructions related to this meeting, see Unit I.D. of the SUPPLEMENTARY INFORMATION.

FOR FURTHER INFORMATION CONTACT: Tamue L. Gibson, MS, DFO, Office of Science Coordination and Policy (7201M), Environmental Protection Agency, 1200 Pennsylvania Ave. NW, Washington, DC 20460-0001; telephone number: 202-564-7642; email address: gibson.tamue@epa.gov.

SUPPLEMENTARY INFORMATION:

I. General Information

A. Does this action apply to me?

This action is directed to the public in general. This action may be of interest to persons who are or may be required to conduct testing of chemical substances under the Federal Food, Drug, and Cosmetic Act (FFDCA) and FIFRA. Since other entities may also be interested, the Agency has not attempted to describe all the specific entities that may be affected by this action.

B. What should I consider as I prepare my comments for EPA?

1. Submitting CBI. Do not submit CBI information to EPA through regulations.gov or email. If your comments contain any information that you consider to be CBI or otherwise protected, please contact the DFO listed under FOR FURTHER INFORMATION CONTACT to obtain special instructions before submitting your comments.

2. Tips for preparing your comments. When preparing and submitting your comments, see Tips for Effective Comments at http://www.epa.gov/dockets/comments.html.

C. Request for Nominations To Serve as Ad Hoc Expert Reviewers To Assist the FIFRA SAP With This Review

As part of a broader process for developing a pool of candidates for each review, FIFRA SAP staff routinely solicits the stakeholder community for nominations of prospective candidates for service as ad hoc reviewers. Any interested person or organization may nominate qualified individuals to be considered as prospective candidates for a specific topic. Individuals nominated for this meeting should have expertise in one or more of the following areas: (i) Statistician (experience in water quality data—preferably pesticides); (ii) environmental exposure scientist (experience in aquatic modeling preferably); (iii) environmental risk assessor (experience in pesticides, environmental fate of pesticides); (iv) water quality expert (experience in pesticides); (v) water quality monitoring specialist; (vi) hydrologist; (vii) aquatic modeler; (viii) aquatic model developer; and (ix) GIS specialist. Nominees should be scientists who have sufficient professional qualifications, including training and experience, to provide expert comments on the scientific issues for this review. Nominees should be identified by name, occupation, position, address, email address, and telephone number. Nominations should be provided to the DFO listed under FOR FURTHER INFORMATION CONTACT on or before September 12, 2019. The Agency will consider all nominations of prospective candidates for this review that are received on or before that date. However, final selection of ad hoc reviewers is a discretionary function of the Agency.

The selection of scientists to serve on a FIFRA SAP review is based on the function of the Panel and the expertise needed to address the Agency's charge to the Panel. No interested scientists shall be ineligible to serve by reason of their membership on any other advisory committee to a Federal department or agency or their employment by a Federal department or agency, except EPA. Other factors considered during the selection process include availability of the potential reviewer to fully participate in the Panel's review, absence of any conflicts of interest or appearance of loss of impartiality, independence with respect to the matters under review, and lack of bias. Although financial conflicts of interest, the appearance of loss of impartiality, lack of independence, and bias may result in disqualification, the absence of such concerns does not assure that a candidate will be selected to serve on a FIFRA SAP review. Numerous qualified candidates are identified for each review; therefore, selection decisions involve carefully weighing a number of factors, including the candidates' areas of expertise and professional qualifications and achieving an overall balance of different scientific perspectives on the Panel. In order to have the collective breadth of experience needed to address the Agency's charge for this review, the Agency anticipates selecting approximately 12 ad hoc scientists.

FIFRA SAP members and ad hoc reviewers are subject to the provisions of the Standards of Ethical Conduct for Employees of the Executive Branch at 5 Code of Federal Regulations Part 2635, conflict of interest statutes in Title 18 of the United States Code, and related regulations. In anticipation of these requirements, prospective candidates for service on FIFRA SAP will be asked to submit confidential financial information which shall fully disclose, among other financial interests, the candidate's employment, stocks, and bonds, and where applicable, sources of research support. EPA will evaluate the candidate's financial disclosure form to assess whether there are financial conflicts of interest, appearance of a loss of impartiality, or any prior involvement with the development of the documents under consideration (including previous scientific peer review) before the candidate is considered further for service on FIFRA SAP. Those who are selected from the pool of prospective candidates will be asked to attend the public meetings and to participate in the discussion of key issues and assumptions at these meetings. In addition, they will be asked to review and to help finalize the meeting minutes and final report. The list of FIFRA SAP members and ad hoc reviewers participating at this meeting will be posted on the FIFRA SAP website at http://www.epa.gov/scipoly/sap or may be obtained from the OPP Docket at http://www.regulations.gov.

D. How may I participate in the in-person meeting?

You may participate in the in-person meeting by following the instructions in this unit. To ensure proper receipt of comments, nominations or other requests by EPA, it is imperative that you identify docket ID number EPA-HQ-OPP-2019-0417 in the subject line on the first page of your request.

1. Written comments. The Agency encourages written comments for the in-person meeting be submitted using the instructions in ADDRESSES and Unit I.B., on or before October 4, 2019, to provide FIFRA SAP the time necessary to consider and review the written comments. FIFRA SAP may not be able to fully consider written comments submitted after October 4, 2019. Written comments are accepted until the date of the meeting, but anyone submitting written comments after October 4, 2019, should contact the DFO listed under FOR FURTHER INFORMATION CONTACT. Anyone submitting written comments at the meeting should bring 30 copies for distribution to the FIFRA SAP by the DFO.

2. Oral comments. The Agency encourages each individual or group wishing to make brief oral comments to the FIFRA SAP during the in-person meeting to submit their request to the DFO listed under FOR FURTHER INFORMATION CONTACT on or before October 4, 2019, in order to be included on the meeting agenda. Requests to present oral comments will be accepted until the date of the in-person meeting and, to the extent that time permits, the Chair of the FIFRA SAP may permit the presentation of oral comments at the in-person meeting by interested persons who have not previously requested time. The request should identify the name of the individual making the presentation, the organization (if any) the individual will represent, and any requirements for audiovisual equipment. Oral comments before the FIFRA SAP during the in-person meeting are limited to 5 minutes unless arrangements have been made prior to October 4, 2019. In addition, each speaker should bring 30 copies of his or her comments and presentation to the meeting for distribution to the FIFRA SAP by the DFO.

3. Seating at the meeting. Seating at the in-person meeting will be open and on a first-come basis.

4. Webcast. This meeting may also be viewed via webcast. Please refer to the FIFRA SAP website at http://www.epa.gov/sap for information on how to access the webcast. Please note that this webcast is a supplementary public process provided only for convenience. If difficulties arise resulting in webcasting outages, the in-person meeting will continue as planned.

E. How may I participate in the preparatory virtual meeting?

Registration for the preparatory virtual meeting is required. To participate by listening or making a comment during this meeting, please visit: http://www.epa.gov/sap to register. Registration online will be confirmed by email that will include the webcast meeting Adobe Connect link and audio teleconference information.

1. Written comments. Written comments for the preparatory virtual meeting should be submitted, using the instructions in ADDRESSES and Unit I.B., on or before October 4, 2019.

2. Oral comments. Registration is required to participate in the preparatory virtual meeting. Please visit the FIFRA SAP website at http://www.epa.gov/sap to register online. Each individual or group wishing to make brief oral comments to the FIFRA SAP during the preparatory virtual meeting should submit their request when registering online or with the DFO listed under FOR FURTHER INFORMATION CONTACT on or before October 4, 2019. Oral comments before the FIFRA SAP during the preparatory virtual meeting are limited to approximately 5 minutes due to the time constraints of this meeting.

3. Webcast. The preparatory meeting will be webcast only. Please refer to the FIFRA SAP website at http://www.epa.gov/sap for information on how to access the webcast. Registration is required.

II. Background

A. Purpose of the FIFRA SAP

The FIFRA SAP serves as one of the primary scientific peer review mechanisms of EPA's Office of Chemical Safety and Pollution Prevention (OCSPP) and is structured to provide independent scientific advice, information and recommendations to the EPA Administrator on pesticides and pesticide-related issues as to the impact of regulatory actions on human health and the environment. FIFRA SAP is a Federal advisory committee established in 1975 under FIFRA that operates in accordance with requirements of the Federal Advisory Committee Act (5 U.S.C. Appendix). The FIFRA SAP is composed of a permanent panel consisting of seven members who are appointed by the EPA Administrator from nominees provided by the National Institutes of Health (NIH) and the National Science Foundation (NSF). FIFRA established a Science Review Board (SRB) consisting of at least 60 scientists who are available to FIFRA SAP on an ad hoc basis to assist in reviews conducted by FIFRA SAP. As a scientific peer review mechanism, FIFRA SAP provides comments, evaluations, and recommendations to improve the effectiveness and quality of analyses made by Agency scientists. Members of FIFRA SAP are scientists who have sufficient professional qualifications, including training and experience, to provide expert advice and recommendation to the Agency.

B. Public Meeting

Pesticides are regulated in the U.S. under both FIFRA and FFDCA. In 1996, Congress passed the Food Quality Protection Act (FQPA) which amended both FIFRA and FFDCA. Under FQPA, for human health, EPA must consider combined exposures (i.e., aggregate exposure) to a single pesticide and the associated transformation products across multiple exposure routes (i.e., oral, dermal, and inhalation) and across multiple pathways (e.g., food, drinking water, and residential uses). Historically, the Agency has used aquatic exposure models to estimate potential pesticide concentrations in drinking water sources across the country.

Recently, EPA developed a drinking water framework document that describes the existing and longstanding continuum of approaches used to assess pesticide exposure in drinking water. EPA used a tiered approach, which began with simple and conservative assumptions and moved towards more refined, less conservative assumptions and approaches, as needed. The most refined tiers considered the use of surface water monitoring to estimate pesticide concentrations. Historically, EPA has generally used surface water monitoring for characterization and not to estimate pesticide concentrations. Pesticide surface water monitoring data rarely have been used as a quantitative measure of exposure in drinking water, but rather are typically used as a line of evidence to support the conceptual exposure model or ground truth model estimated concentrations.

Further, most surface water monitoring programs typically collect samples on a nondaily basis, such as weekly or biweekly, even in relatively high-sampling frequency programs. Based on EPA's review of available surface water monitoring data, it is not uncommon for monitoring sites to be sampled once per year or quarterly, and in many cases, the same monitoring sites are not sampled every year. The quantitative use of pesticide surface water monitoring data in drinking water assessments requires an understanding of the impact of numerous variables on the frequency and magnitude of pesticide occurrence (e.g., sample site location, sample frequency, watershed characteristics, pesticide use, rainfall patterns, etc.). Because of the nature of pesticide concentrations in surface water (e.g., spikes in concentration following rainfall events, followed by lower concentrations over longer periods of time) and limited sampling frequencies, available surface water data may not provide a reliable estimate of the true range of pesticide concentrations relevant to the durations of exposure associated with cancer and non-cancer risks. Moreover, based on the Agency's review of available surface water monitoring sites, sampling sites are often not located in the vulnerable areas where pesticide concentrations are expected to be at the upper end of the anticipated concentration range, although targeted surface water monitoring data may be available for some pesticides.

The Agency is interested in using surface water monitoring data to confidently estimate pesticide concentrations in surface water that may be sourced by community water systems.

Specifically, the Agency is seeking advice and recommendation from the FIFRA SAP on scientific issues associated with the evaluation and utility of SEAsonalWAVEQ with EXtended capabilities model (SEAWAVE-QEX), long-term sampling bias factors, watershed regressions, and optimization of short-term sampling bias factors.

EPA has a method for better utilizing available pesticide surface water quality monitoring data that are temporally and spatially limited for estimating upper-bound concentrations relevant for use in drinking water assessments. As part of the SAP, EPA is soliciting comments from the panel on approaches for quantitative use of surface water monitoring data in its drinking water assessments.

C. FIFRA SAP Documents and Meeting Minutes

The EPA's background paper, the supporting materials, and draft charge/questions to FIFRA SAP will be available by late-August. In addition, a list of candidates under consideration as prospective ad hoc panelists for this meeting will be available for a 15-day public comment period by mid to late-September. The Agency will provide additional background documents (e.g., the meeting agenda) as the materials become available. You may obtain electronic copies of these documents, and certain other related documents that might be available, at http://www.regulations.gov in docket EPA-HQ-OPP-2019-0417 and on the FIFRA SAP website at http://www.epa.gov/sap.

The FIFRA SAP will prepare meeting minutes summarizing its recommendations to the Agency approximately 90 days after the meeting. The meeting minutes will be posted on the FIFRA SAP website at http://www.epa.gov/sap or may be obtained from the OPP Docket at http://www.regulations.gov.

Authority: 7 U.S.C. 136 et. seq.; 21 U.S.C. 301 et seq.

Dated: August 2, 2019.
Hayley Hughes,
Director, Office of Science Coordination and Policy.

[FR Doc. 2019-17336 Filed 8-12-19; 8:45 am]

BILLING CODE 6560-50-P